DEPARTMENT OF STATE

[Public Notice 5049]

Bureau of Educational and Cultural Affairs (ECA) Request for Grant Proposals for Study of the U.S. Institute for Bolivian Indigenous Student Leaders

Announcement Type: New Cooperative Agreement.

Funding Opportunity Number: ECA/A/E/USS-05-09-BSL.

Catalog of Federal Domestic Assistance Number: 00.000.

Key Dates:

Application Deadline: June 1, 2005.

Executive Summary: The Study of the U.S. Branch, Office of Academic Exchange Programs, Bureau of Educational and Cultural Affairs, announces an open competition for public and private non-profit organizations to develop and implement a four-week “Study of the United States Institute for Bolivian Indigenous Student Leaders” to take place in January or January-February 2006. This program is to be conducted in Spanish as the primary language of instruction. It is designed to provide a group of 12 to 15 highly motivated undergraduate student leaders representing the Bolivian indigenous population with a four-week academic seminar and educational travel program that will give them a deeper understanding of U.S. society, culture, values and institutions, while at the same time assisting these participants in the further development of their leadership potential and collective problem-solving skills.

The Bureau anticipates providing one assistance award to support this program.

Program participants will be drawn principally from the Quechua and Aymara indigenous groups of Bolivia, but should include students from some of Bolivia's 30 other ethnic groups. The participants will be identified and selected by the U.S. Embassy in La Paz, in consultation with the State Department's Bureau of Western Hemisphere Affairs and ECA.

Participants will be selected on the basis of their demonstrated leadership capacity as well as academic achievement, community involvement and interest in learning about the United States. It is expected that they will draw on the experience derived from this institute in future positions of leadership in their community and home country.

I. Funding Opportunity Description

Authority: Overall grant making authority for these programs is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.”

Based on a group of 12 to 15 participants, the total Bureau-funded budget (program and administrative) for the Study of the U.S. Institute for Bolivian Indigenous Student Leaders should be approximately $230,000. Please Note: Proposals for programs involving between 12 and 15 participants will be eligible for consideration, however preference will be given to proposals that accommodate larger numbers of participants, up to the maximum of 15 (12 participants should be the minimum).

Applicants must submit a comprehensive budget for the entire program. The Bureau reserves the right to reduce, revise, or increase proposal budgets in accordance with the needs of the program, and availability of U.S. government funding.

Purpose: The Bureau is seeking detailed proposals for the Study of the United States Institute for Bolivian Indigenous Student Leaders from U.S. liberal arts colleges, universities, consortia of colleges and universities, and other not-for-profit academic organizations, that have an established reputation in one or more of the following fields: political science, international relations, law, history, sociology, U.S. studies, and/or other disciplines or sub-disciplines related to the study of the United States.

The academic program should be designed to illuminate the history and evolution of U.S. society, culture, values and institutions, broadly defined. It should include attention to the role and influence of principles and values such as democracy, the rule of law, individual rights, freedom of expression, equality, diversity and tolerance in American life and society, and provide insight into the nature of the political process in the United States. The concepts of individual and civic responsibility, volunteerism and community involvement should also be addressed. To the extent feasible, hands-on activities related to these areas should be included in the program.

Within this broader framework, the program should also include a focus on how different social and ethnic groups interact in American society and politics, and how disadvantaged populations within the U.S.—e.g., Native Americans and other minorities, immigrants and other populations—have been able to overcome discrimination or exclusion and enter the mainstream of American economic, political and social life. The program should examine current political, social and economic issues and debates relating to these groups and their relations with broader U.S. society. Participants also should learn how free enterprise, free trade, foreign investment, and creation of economic zones can promote economic development and economic opportunity.

In light of the foregoing, it will be important that applicant institutions demonstrate a competence in such areas as civil rights, governance in ethnically and socially diverse communities, interactions between different social, cultural and ethnic groups, and strategies to promote economic opportunity among disadvantaged groups. Applicant institutions are strongly encouraged to involve organizations that represent these interests and groups in the planning and implementation of the institute.

In addition to promoting a better understanding of the United States and of how diverse groups interact and cooperate within the U.S., an important objective of this institute is to help the participants develop their leadership and consensus-building skills. In this context, the program should include lectures as well as group discussions and exercises focusing on such topics as the essential attributes of leadership; “teambuilding;” developing effective communication and problem-solving skills; and managing change in different organizational settings.

Because the program will be conducted in Spanish as the primary language of instruction, applicant institutions must demonstrate that most if not all the institute faculty, as well as guest speakers, administrative staff, and others who will be prominently involved in program implementation are fluent Spanish speakers, or that appropriate arrangements for translation services can be made within the confines of the program budget.

The program should be four weeks in length with a domestic travel component of not more than seven (7) days, including a concluding 2-3 days in Washington, DC, at the end of the program. This travel component should directly complement the academic residency segment. It should include visits to cities and other sites of interest in the region of the host institution.

The institute should be organized through an integrated, balanced series of lectures, readings, seminar discussions, experiential learning exercises, regional travel, and site visits. The academic component should encourage active participation by the students in lecture and panel formats, as well as through activities such as group projects and debates. Opportunities for participants to meet ordinary Americans from different social, ethnic and economic backgrounds should be arranged in the form of dinners or weekend home stays with local families, meetings of civic organizations, or get-togethers with American students. Participants may be invited to speak to appropriate student and civic groups about their experiences and life in their home country.

Applicants are encouraged to design thematically coherent programs in ways that draw upon the particular strengths, faculty and resources of their institutions and communities as well as upon the nationally recognized expertise of scholars and other experts throughout the United States. Within the limits of their thematic focus and organizing framework, Institute programs should also be designed to:

1. Bring an interdisciplinary or multi-disciplinary focus to bear on the program content;

2. give participants a multi-dimensional view of U.S. society and institutions that includes a broad and balanced range of perspectives. Where possible, programs should therefore include the views not only of scholars but also other professionals such as government officials, representatives of non-governmental or community service organizations, journalists, and others who can substantively contribute to the topics at issue; and

3. ensure access to library and material resources that will enable grantees to continue their research and study upon returning to their home institutions.

The project director or one of the key program staff responsible for the academic program must have an advanced degree in political science, international relations, law, history, sociology, U.S. studies and/or other disciplines or sub-disciplines related to the study of the United States. Programs must conform with Bureau requirements and guidelines outlined in the Solicitation Package. Bureau programs are subject to the availability of funds.

The host institution will also be expected to provide participants post-program opportunities for further investigation and research on the topics and issues examined and discussed during the institute.

Participants: As specified in the Project Objectives, Goals and Implementation (POGI) guidelines in the solicitation package, participants in the “Study of the United States Institute for Bolivian Indigenous Student Leaders” will be highly motivated students representing the Quechua, Aymara and other indigenous populations who are enrolled as first, second or third year undergraduates at Bolivian universities. Participants will be fully conversant in Spanish, which is the language of instruction in many Bolivian universities; however, they will likely have very limited or no working knowledge of English. All participants will have demonstrated academic excellence, leadership potential as manifested through, e.g., community involvement, and a serious interest in learning more about the United States.

Participants will be identified and selected by the U.S. Embassy in La Paz in consultation with the State Department's Bureau of Western Hemisphere Affairs and ECA. A mix of male and female participants will be included, and a mix of ethnic, religious and cultural backgrounds represented. The students' major fields are expected to vary, including the humanities, social sciences, education, business, and other professional fields.

All participants in this program will be required to return home to continue their university studies following completion of their Institute program. They will have had little or no prior study or travel experience in the United States or elsewhere outside of their home country, and must be willing and able to fully participate in an intensive academic program, community service, and active educational travel program. As participants will be selected in part on the basis of their demonstrated leadership capacity, it is expected they will use the experience derived from the program in positions of responsibility in their communities and country in the future.

Please note: Special attention will be required on the part of the host institution to the students' limited knowledge of the U.S. and their varying levels of academic sophistication. Particular sensitivity also may be required on the part of the host institution to the cultural traditions and religious practices of the participating students, who will represent a variety of ethnic and religious groups. Special requirements and restrictions regarding diet, worship, housing and medical care may need to be considered. ECA will provide guidance and assistance, as needed.

Program Dates: The Study of the United States Institute for Bolivian Indigenous Student Leaders should be 28 days in length (including participant arrival and departure days). The institute should begin in early to mid-January 2006 and conclude either in late January or early February 2006.

Program Guidelines: The conception and structure of the institute program is the responsibility of the organizers. It is critically important that proposals provide a full, detailed and comprehensive narrative describing the objectives of the institute; the title, scope and content of each session; planned site visits; and, how each session relates to the overall institute theme(s). A syllabus must be included that indicates the subject matter for each lecture, panel discussion or other activity (e.g., group exercises), confirms or provisionally identifies proposed lecturers and session leaders, and clearly shows how assigned readings will support each session (assigned readings should be Spanish-language only). A calendar of all program activities must also be included. The recipient may be required to obtain review and approval of significant agenda/syllabus changes in advance of their implementation.

Note: In a cooperative agreement, ECA is substantially involved in program activities above and beyond routine grant monitoring. ECA activities and responsibilities for this program are as follows: ECA will participate in the selection of participants, will exercise oversight with one or more site visits and will debrief participants while in the U.S. and also engage in follow-up communications with the participants upon their return home. ECA may require changes in the activities proposed even after the grant is awarded.

II. Award Information

Type of Award: Cooperative Agreement. ECA's level of involvement in this program is described in section I above.

Fiscal Year Funds: FY-2005.

Approximate Total Funding: $230,000.

Approximate Number of Awards: 1.

Approximate Average Award: $230,000.

Floor of Award Range: $200,000.

Ceiling of Award Range: $230,000.

Anticipated Award Date: Pending availability of funds, August 1, 2005.

Anticipated Project Completion Date: September 30, 2006.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), subpart C.23—Cost Sharing and Matching. In the event you do not provide the minimum amount of cost sharing as stipulated in the approved budget, ECA's contribution will be reduced in like proportion.

III.3. Other Eligibility Requirements

(a) Bureau grant guidelines require that organizations with fewer than four years experience in conducting international exchanges be limited to $60,000 in Bureau funding. ECA anticipates awarding one assistance award in an amount up to $230,000 for the Study of the U.S. Institute for Bolivian Indigenous Student Leaders. Therefore, organizations with less than four years experience in conducting international exchanges are ineligible to apply under this competition. The Bureau encourages applicants to provide maximum levels of cost sharing and funding in support of its programs.

(b) Technical Eligibility: All proposals must comply with the following: The project director or one of the key program staff responsible for the academic program must have an advanced degree in one of the following fields: political science, international relations, law, history, sociology, literature, U.S. studies, and/or other disciplines or sub-disciplines related to the program themes.

Failure to meet this criterion will result in your proposal being declared technically ineligible and given no further consideration in the review process.

IV. Application and Submission Information

Note: Please read the complete Federal Register announcement before sending inquiries or submitting proposals. Staff in ECA's Study of the U.S. Branch ECA/A/E/USS) staff will be available to consult with prospective applicant institutions about proposal preparation and program design and content up until the proposal submission deadline. Once the RFGP deadline has passed, Bureau staff may not discuss this competition with applicants until the proposal review process has been completed.

IV.1. Contact Information To Request an Application Package

Please contact the Branch for the Study of the U.S., ECA/A/E/USS, Room Number 252, U.S. Department of State, SA-44, 301 4th Street, SW., Washington, DC 20547, telephone number (202) 453-8536 and fax number (202) 453-8533, email BendaPM@State.gov to request a Solicitation Package. Please refer to the Funding Opportunity Number ECA/A/E/USS-05-09-BSL when making your request.

The Solicitation Package contains the Proposal Submission Instruction (PSI) document which consists of required application forms, and standard guidelines for proposal preparation.

It also contains the Project Objectives, Goals and Implementation (POGI) document, which provides specific information, award criteria and budget instructions tailored to this competition.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and eight (8) copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the solicitation package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Please note: Because the cooperative agreement prospectively to be awarded under the terms of the present RFGP is likely to be of less than one year's duration, host institutions will not be expected to be able to demonstrate significant specific results in terms of participant behavior or institutional changes during the agreement period. Applicant institutions' monitoring and evaluation plans should, therefore, focus primarily on the first and more particularly the second level of outcomes (learning). ECA/A/E/USS will assume principal responsibility for developing performance indicators and conducting post-institute evaluations to measure changes in participant behavior as a result of the program, and effect of the program on institutions, over time.

Grantees will be required to provide reports analyzing their evaluation findings to the Bureau in their regular program reports. All data collected, including survey responses and contact information, must be maintained for a minimum of three years and provided to the Bureau upon request.

IV.3d.4. Describe Your Plans for Overall Program Management, Staffing, and Coordination With ECA

ECA considers program management, staffing and coordination with the Department of State essential elements of your program. Please be sure to give sufficient attention to these elements in your proposal. Please refer to the Technical Eligibility Requirements and the POGI in the Solicitation package for specific guidelines.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

Applicants must submit a comprehensive budget for the entire program. The Bureau reserves the right to reduce, revise, or increase proposal budgets in accordance with the needs of the program, and availability of U.S. government funding.

Please refer to the “POGI” in the Solicitation Package for complete institute budget guidelines and formatting instructions.

IV.3e.2. Allowable Costs for the Program Include the Following

(1) Institute staff salary and benefits.

(2) Honoraria for guest speakers.

(3) Participant per diem.

Please refer to the Solicitation Package for complete budget guidelines and formatting instructions.

IV.3f. Submission Dates and Times: Application Deadline Date: June 1, 2005.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package. Important note: When preparing your submission please make sure to include one extra copy of the completed SF-424 form and place it in an envelope addressed to “ECA/EX/PM.”

The original and eight (8) copies of the application for the Study of the U.S. Institute for Bolivian Indigenous Student Leaders should be sent to: U.S. Department of State, SA-44, Bureau of Educational and Cultural Affairs, Program Management, ECA/EX/PM, Room 534, 301 4th Street, SW., Washington, DC 20547, Reference number: ECA/A/E/USS-05-09-BSL.

Along with the Project Title, all applicants must enter the above Reference Number in Box 11 on the SF-424 contained in the mandatory Proposal Submission Instructions (PSI) of the solicitation document.

IV.3g. Intergovernmental Review of Applications: Executive Order 12372 does not apply to this program.

Applicants are also requested to submit the “Executive Summary” and “Proposal Narrative” sections of the proposal in text (.txt) format on a PC-formatted disk.

V. Application Review Information

V.1. Review Process

The Bureau will review all proposals for technical eligibility. Proposals will be deemed ineligible if they do not fully adhere to the guidelines stated herein and in the Solicitation Package. All eligible proposals will be reviewed by the ECA program office, the Bureau of Western Hemisphere Affairs, and the Public Affairs Section of the U.S. Embassy in La Paz. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Overall Quality: Proposals should exhibit originality and substance, consonant with the highest standards of American teaching and scholarship. Program design should reflect the main currents as well as the debates within the subject disciplines of each institute. Program elements should be tailored for students with limited knowledge of the U.S. and with varying degrees of academic sophistication. Lectures, panels, and other interactive classroom activities, readings, community service, and site visits, taken as a whole, should offer a balanced presentation of issues, reflecting both the continuity of the American experience as well the diversity and dynamism inherent in it.

2. Program Planning and Administration: Proposals should demonstrate careful planning. The organization and structure of the institute should be clearly delineated and be fully responsive to all program objectives. A program syllabus (noting specific sessions and topical readings in Spanish supporting each academic unit) should be included, as should a calendar of activities. The travel component should not simply be a tour, but should be an integral and substantive part of the program, reinforcing and complementing the academic segment. Proposals should provide evidence of continuous administrative and managerial capacity as well as the means by which program activities and logistical matters will be implemented. Constant supervision will be required on the part of the host institution during the academic, extracurricular and daily life activities of the students.

3. Ability to Achieve Program Objectives: Objectives should be reasonable, feasible, and flexible. Proposals should clearly demonstrate how the institution will meet the program's objectives and plan.

4. Institutional Capacity: Proposed personnel, including faculty and administrative staff as well as outside presenters, should be fully qualified to achieve the project's goals. Library and meeting facilities, housing, meals, transportation and other logistical arrangements should fully meet the needs of participants.

5. Institution's Record/Ability: Proposals should demonstrate an institutional record of successful exchange program activities, indicating the experience that the organization and its professional staff have had working with foreign students, particularly from Latin America. The Bureau will consider the past performance of prior recipients and the demonstrated potential of new applicants.

6. Support of Diversity: Proposals should demonstrate substantive support of the Bureau's policy on diversity. “Diversity” should be interpreted in the broadest sense and encompass differences including, but not limited to ethnicity, race, gender, religion, geographic location, socio-economic status, and disabilities. Applicants are strongly encouraged to adhere to the advancement of this principle both in program administration and in program content. Applicant institutions should highlight instances of diversity in their proposal.

7. Project Evaluation and Follow-up: Proposals should include a plan to evaluate the activity's success, both as the activities unfold and at the end of the program. A draft survey questionnaire or other technique plus description of a methodology to use to link outcomes to original project objectives is strongly recommended. Proposals should also discuss provisions made for follow-up with returned grantees as a means of establishing longer-term individual and institutional linkages.

8. Cost-Effectiveness/Cost Sharing: Proposals for programs involving between 12 and 15 participants will be eligible for consideration, however preference will be given to proposals that accommodate larger numbers of participants, up to the maximum of 15 (12 participants should be the minimum). The overhead and administrative components of the proposal, including salaries and honoraria, should be kept as low as possible. All other items should be necessary and appropriate.

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Governments, and Non-profit Organizations.

Please reference the following Web sites for additional information:

http://www.whitehouse.gov/omb/grants.

http://exchanges.state.gov/education/grantsdiv/terms.htm#articleI.

VI.3. Reporting Requirements

You must provide ECA with a hard copy original plus two copies of the following reports:

Mandatory:

(1) A final program and financial report no more than 90 days after the expiration of the award or the conclusion of the institute, whichever comes first;

Grantees will be required to provide reports analyzing their evaluation findings to the Bureau in their regular program reports. (Please refer to IV. Application and Submission Instructions (IV.3d.3) above for Program Monitoring and Evaluation information.

All data collected, including survey responses and contact information, must be maintained for a minimum of three years and provided to the Bureau upon request.

All reports must be sent to the ECA Grants Officer and ECA Program Officer listed in the final assistance award document.

VI.4. Optional Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Branch for the Study of the U.S., ECA/A/E/USS, Room Number 252, ECA/A/E/USS-05-09-BSL, Study of the U.S. Institute for Bolivian Indigenous Student Leaders, U.S. Department of State, SA-44, 301 4th Street, SW., Washington, DC 20547, telephone number (202) 453-8536 and fax number (202) 453-8533, e-mail: BendaPM@State.gov.

All correspondence with the Bureau concerning this RFGP should reference the above title and number ECA/A/E/USS-05-09-BSL.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 6, 2005.
C. Miller Crouch,
Principal Deputy Assistant Secretary, Bureau of Educational and Cultural Affairs, Department of State.

[FR Doc. 05-7511 Filed 4-13-05; 8:45 am]

BILLING CODE 4710-05-P